DEPARTMENT OF THE TREASURY

Office of Foreign Assets Control

Unblocking of One Entity Pursuant to Executive Order 13224

AGENCY: Office of Foreign Assets Control, Treasury.

ACTION: Notice.

SUMMARY: The Treasury Department's Office of Foreign Assets Control (“OFAC”) is removing the name of one entity, whose property and interests in property have been blocked pending investigation pursuant to Executive Order 13224 of September 23, 2001, Blocking Property and Prohibiting Transactions With Persons Who Commit, Threaten To Commit, or Support Terrorism, from the list of Specially Designated Nationals and Blocked Persons (“SDN List”).

DATES: The removal of this entity from the SDN List is effective as of July 11, 2014.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

The SDN List and additional information concerning OFAC are available from OFAC's Web site (www.treasury.gov/ofac). Certain general information pertaining to OFAC's sanctions programs also is available via facsimile through a 24-hour fax-on-demand service, tel.: 202/622-0077.

Background

On September 23, 2001, the President issued Executive Order 13224 (the “Order”) pursuant to the International Emergency Economic Powers Act, 50 U.S.C. 1701-1706 (“IEEPA”), and the United Nations Participation Act of 1945 (“UNPA”), 22 U.S.C. 287c, imposing economic sanctions on persons who commit, threaten to commit, or support acts of terrorism. The President identified in the Annex to the Order various individuals and entities as subject to the economic sanctions. The Order authorizes the Secretary of the Treasury, in consultation with the Secretary of State, the Attorney General, and (pursuant to Executive Order 13284) the Secretary of the Department of Homeland Security, to designate additional persons or entities determined to meet certain criteria set forth in Executive Order 13224. The Order further authorizes the Secretary of the Treasury, in consultation with the Secretary of State, the Attorney General, and the Secretary of the Department of Homeland Security to take such actions, including the promulgation of rules and regulations, and to employ all powers granted to the President by IEEPA and UNPA as may be necessary to carry out the purposes of the Order.

The Department of the Treasury's Office of Foreign Assets Control has determined that this entity should be removed from the SDN List.

The following name is removed from the SDN List:

Entity

1. KINDHEARTS FOR CHARITABLE HUMANITARIAN DEVELOPMENT, INC., P.O. Box 23310, Toledo, OH 43623; 3450 West Central Avenue, #366, Toledo, OH 43606; P.O. Box 1248, Gaza, Palestinian; Ramallah, West Bank, Palestinian; Jenin, West Bank, Palestinian; Mar Elyas Street, Hiba Center, 1st Floor, Beirut, Lebanon; Pakistan [BPI-PA].

The removal of this entity from the SDN List is effective as of July 11, 2014. All property and interests in property of the entity that are in or hereafter come within the United States or the possession or control of United States persons are now unblocked.

Dated: July 11, 2014.
Barbara C. Hammerle,
Acting Director, Office of Foreign Assets Control.

[FR Doc. 2014-16913 Filed 7-17-14; 8:45 am]

BILLING CODE 4810-AL-P